DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: National Survey of Children's Health.

OMB Control Number: 0607-XXXX.

Form Number(s): See following breakdown:

English survey forms include:

NSCH-P-S1 (English Screener), NSCH-P-T1 (English Topical for 0- to 5-year-old children), NSCH-P-T2 (English Topical for 6- to 11-year-old children), and NSCH-P-T3 (English Topical for 12- to 17-year-old children).

Spanish survey forms include:

NSCH-PS-S1 (Spanish Screener), NSCH-PS-T1 (Spanish Topical for 0- to 5-year-old children), NSCH-PS-T2 (Spanish Topical for 6- to 11-year-old children), and NSCH-PS-T3 (Spanish Topical for 12- to 17-year-old children).

Type of Request: Regular submission.

Number of Respondents: 12,534.

Average Hours per Response: 0.08 for the screener and 0.5 for the topical.

Burden Hours: 2,262 hours.

Needs and Uses: The National Survey of Children's Health (NSCH) Pretest is a small-scale (N = 16,000 addresses) national pretest conducted prior to fielding the first year production survey. This pretest is necessary to assess survey methodology, evaluate the survey instrument, and test operational procedures and processes. The pretest sample will consist of several panels to assess data collection mode preferences (Mail or Internet) of respondents, amount of respondent cash incentives ($5 or $10) needed to gain cooperation and participation in the survey, and telephone as a method of nonresponse follow-up.

Plans for pretest data collection include two modes. The first mode that will be tested is a mail out/mail back of a self-administered paper-and-pencil interviewing (PAPI) screener instrument followed by a separate mail out/mail back of a PAPI age-based topical instrument. The second mode that will be tested is an Internet survey that contains the screener and topical instruments. The Internet instrument will take the respondent through both the screener questions and if the household screens into the study, they will be taken directly into one of the three age-based topical sets of questions.

The pretest allows for the preparation of a successful first year production survey based on previously tested methods and procedures. In turn, this enables the Maternal and Child Health Bureau (MCHB) of the Health Resources and Services Administration (HRSA) of the U.S. Department of Health and Human Services (HHS) to produce national and state-based estimates on the health and well-being of children, their families, and their communities as well as estimates of the prevalence and impact of children with special health care needs.

Affected Public: Parents, researchers, policymakers, and family advocates.

Frequency: One time.

Respondent's Obligation: Voluntary.

Legal Authority: Census Authority: Title 13, U.S.C. Section 8(b) MCHB Authority: 42 U.S.C., Chapter 7, Title V (Social Security Act) Confidentiality: Confidential Information Protection and Statistical Efficiency Act (CIPSEA).

This information collection request may be viewed at www.reginfo.gov. Follow the instructions to view Department of Commerce collections currently under review by OMB.

Written comments and recommendations for the proposed information collection should be sent within 30 days of publication of this notice to OIRA_Submission@omb.eop.gov or fax to (202) 395-5806.

Dated: April 24, 2015.
Glenna Mickelson,
Management Analyst, Office of the Chief Information Officer.

[FR Doc. 2015-09975 Filed 4-28-15; 8:45 am]

BILLING CODE 3510-07-P